DEPARTMENT OF DEFENSE

Department of the Army: Corps of Engineers

Public Scoping Meetings and Preparation of Environmental Impact Statement for the Proposed Glades Reservoir

AGENCY: Department of the Army, U.S. Army Corps of Engineers, DoD.

ACTION: Notice of Intent to Prepare an Environmental Impact Statement.

SUMMARY: The U.S. Army Corps of Engineers (USACE), Savannah District, has received an application (File Number SAS-2007-00388) for a Department of the Army Permit pursuant to Section 404 of the Clean Water Act (33 U.S.C. 1344) from the Hall County Board of Commissioners (Applicant) for a proposed water supply reservoir project to be located in Hall County, Georgia. The proposed project would be comprised of a new pump-storage water supply reservoir (Glades Reservoir), as well as pipelines and pumping stations to withdraw water from the Chattahoochee River and to connect with the existing Cedar Creek Reservoir. Water would be pumped to the existing Cedar Creek Reservoir located in eastern Hall County for treatment and distribution to Hall County customers. The Applicant believes this action is needed to supply water for Hall County through the year 2060.

The primary federal involvement associated with the proposed action is the discharge of dredged or fill material into waters of the United States, including jurisdictional wetlands. It is estimated, by the Applicant, that 39.2 acres of jurisdictional wetlands and approximately 95,000 linear feet of streams would be adversely affected by the proposed action. Federal authorizations for the proposed project would constitute a “major federal action.” Based on the potential impacts, both individually and cumulatively, the USACE intends to prepare an Environmental Impact Statement (EIS) in compliance with the National Environmental Policy Act to render a final decision on the permit application.

The USACE's decision will be to either issue, issue with modification or deny a Department of the Army permit for the proposed action. The EIS will assess the potential social, economic and environmental impacts of the construction and operation of the reservoir, raw water conveyances, associated facilities, and appurtenances. The EIS is intended to be sufficient in scope to address federal, state and local requirements, environmental issues concerning the proposed action, and permit reviews.

DATES: The scoping period will commence with the publication of this notice. The formal scoping period will end 60 days after the publication of this notice. Comments regarding issues relative to the proposed project should be received by April 17, 2012.

ADDRESSES: You may submit written comments by mail to U.S. Army Corps of Engineers, Attention: Regulatory Division, 100 West Oglethorpe Avenue, Savannah, Georgia 31401-3640. You may also submit written comments on-line at http://www.gladesreservoir.com. Documents pertinent to the proposed project may be examined at the Web site http://www.gladesreservoir.com.

FOR FURTHER INFORMATION CONTACT: Richard Morgan, Project Manager, U.S. Army Corps of Engineers, at (912) 652-5139.

SUPPLEMENTARY INFORMATION: The USACE Savannah District intends to prepare an EIS on the proposed Glades Reservoir project. The Hall County Board of Commissioners proposes this project and is the applicant for a Department of the Army permit (File Number SAS-2007-00388).

1. Project Description: The Glades Reservoir is a proposed pumped-storage reservoir on Flat Creek, a tributary to the Chattahoochee River upstream of Lake Sidney Lanier. The drainage area for the proposed Glades Reservoir is estimated to be 17.6 square miles. The proposed dam would impound an approximately 850-acre reservoir at a normal pool elevation of 1180 feet mean sea level (msl) and provide 11.7 billion gallons of water storage capacity. The proposed Glades Reservoir would be located approximately 12 miles northeast of Gainesville, Georgia, northeast of US 23/365, near the US 23/365 State Route (SR) 52 intersection.

The proposed Glades Reservoir water supply project would be comprised of a new water supply reservoir, as well as pipelines and pumping stations for withdrawing water from the Chattahoochee River and for interconnecting with the existing Cedar Creek Reservoir. Water would be withdrawn from the Cedar Creek Reservoir for treatment and distribution to customers in Hall County.

The total system (Glades Reservoir-Cedar Creek Reservoir system) safe yield is estimated to be 80 million gallons per day (mgd) (on an annual average daily basis), which includes 7.5 mgd of safe yield from the existing Cedar Creek Reservoir. The Glades Reservoir water supply project is proposed to meet an unmet projected water demand of 72.5 mgd in 2060.

When adequate flows are available in the Chattahoochee River, water would be withdrawn from the Chattahoochee River and delivered to the Hall County through the existing Cedar Creek Reservoir.

When insufficient flow occurs, water would be released from the Glades Reservoir to meet water supply demand while maintaining the minimum in-stream flow in the Chattahoochee River.

In May 2011, a Jurisdictional Waters of the U.S. Delineation was conducted by the Applicant on the reservoir site using sub-meter global positioning system (GPS). The delineation determined that the impacts at elevation 1,180 feet msl would be 39.2 acres of wetlands and approximately 95,000 linear feet of stream.

2. Scoping and Public Involvement Process: The purpose of the public scoping process is to determine relevant issues that will affect the scope of the environmental analysis and EIS alternatives. Some areas of potential significant impact have been identified, but are not limited to the following:

a. Loss of aquatic resources, including wetlands

b. Water quality

c. Water quantity, including downstream impacts

d. Air quality

e. Secondary and cumulative impacts

f. Federal navigation

g. Federal projects

h. Socioeconomics, including environmental justice

i. Cultural resources

j. Threatened and endangered species.

The EIS process is being implemented so that the application can be fully evaluated and a permit decision can be made. The purpose of the EIS scoping meetings is to gather information on the subjects to be studied in detail in the EIS.

3. Purpose and Need. The purpose of the proposed action is to provide sufficient water supply to meet projected water demand in Hall County through the year 2060.

4. Alternatives. An evaluation of alternatives to the Applicant's preferred alternative initially being considered includes a No Action alternative, alternatives that would avoid, minimize and compensate for impacts to the aquatic environment, alternatives utilizing alternative practices, and other reasonable alternatives that will be developed through the project scoping process which may also meet the identified purpose and need.

5. Additional Resources to be Evaluated. Resource areas to be evaluated that have been identified to date include the following: potential direct effects to waters of the U.S. including aquatic species; environmental justice; socioeconomic environment; archaeological and cultural resources; recreation and recreational resources; energy supply and natural resources; hazardous waste and materials; aesthetics; public health and safety; navigation; erosion and accretion; cumulative impacts; public benefit and needs of the people along with potential effects on the human environment. All parties who express interest will be given an opportunity to participate in the process.

6. Public Scoping Meetings. Three public scoping meetings will be held at the following locations/dates:

a. March 20, 2012, 4 to 8 p.m. at Gainesville State College, 3820 Mundy Mill Road, Oakwood, GA 30566

b. March 21, 2012, 4 to 8 p.m. at Lexington Auburn University Convention Center, 1577 South College Street, Auburn, AL 36832;

c. March 22, 2012, 4 to 8 p.m. at Apalachicola National Estuarine Research Reserve, 108 Island Drive, Eastpoint, FL 32328

The USACE will announce the public scoping meetings through local news media and the Web page at least 15 days prior to the first meeting. Comments are encouraged from the public, federal, state, and local agencies and officials, Indian tribes, and other interested parties so that the scope of the EIS may be properly identified.

7. Coordination. The proposed action is being coordinated with a number of Federal, state, regional and local agencies including, but not limited to, the U.S. Environmental Protection Agency, the U.S. Fish and Wildlife Service, and the Georgia Department of Natural Resources Environmental Protection Division. These agencies were requested by the USACE Savannah District to be cooperating agencies for this EIS per Council on Environmental Quality regulations at 40 CFR 1501.6. The U.S. Environmental Protection Agency and the Georgia Environmental Protection Division have agreed to participate in the EIS process as cooperating agencies. Other agencies, including the state resource protection agencies of the States of Alabama and Florida and the U.S. Fish and Wildlife Service may also comment during the scoping process.

8. Availability of the Draft EIS. The USACE currently expects the Draft EIS to be made available to the public by December 30, 2012.

Russell L. Kaiser,
Chief, Regulatory Division.

[FR Doc. 2012-3359 Filed 2-16-12; 8:45 am]

BILLING CODE 3720-58-P